FEDERAL ACCOUNTING STANDARDS ADVISORY BOARD

Notice of Reappointment of Board Member to FASAB

AGENCY: Federal Accounting Standards Advisory Board.

ACTION: Notice.

SUMMARY: Notice is hereby given that Mr. Terry Patton has been reappointed to the Federal Accounting Standards Advisory Board (FASAB or “the Board”). Mr. Patton's second and final five-year term begins on July 1, 2024, and will conclude on June 30, 2029.

ADDRESSES: The news release is available on the FASAB website at https://www.fasab.gov/news-releases/. Copies can be obtained by contacting FASAB at (202) 512-7350.

FOR FURTHER INFORMATION CONTACT: Ms. Monica R. Valentine, Executive Director, 441 G Street NW, Suite 1155, Washington, DC 20548, or call (202) 512-7350.

Authority: 31 U.S.C. 3511(d); Federal Advisory Committee Act, 5 U.S.C. 1001-1014.

Dated: April 3, 2024.
Monica R. Valentine,
Executive Director.

[FR Doc. 2024-07516 Filed 4-8-24; 8:45 am]

BILLING CODE 1610-02-P